DEPARTMENT OF THE INTERIOR

Bureau of Land Management

[WYW 152420]

Public Land Order No. 7628; Withdrawal of Public Land for the Pryor Mountain Wild Horse Range; Wyoming

AGENCY: Bureau of Land Management, Interior.

ACTION: Public Land Order.

SUMMARY: This order withdraws 1,960.10 acres of public land from surface entry and mining for a period of 20 years for the Bureau of Land Management to protect wild horse and wildlife habitat, and watershed, recreation, cultural, and scenic values within the Pryor Mountain Wild Horse Range.

EFFECTIVE DATE: March 8, 2005.

FOR FURTHER INFORMATION CONTACT: Tom Carroll, Bureau of Land Management, Billings Field Office, 5001 Southgate Drive, Billings, Montana 59101, 406-896-5242.

Order

By virtue of the authority vested in the Secretary of the Interior by section 204 of the Federal Land Policy and Management Act of 1976, 43 U.S.C. 1714 (2000), it is ordered as follows:

1. Subject to valid existing rights, the following described public land is hereby withdrawn from settlement, sale, location, or entry under the general land laws, including the United States mining laws (30 U.S.C. Ch. 2 (2000)), to protect wild horse and wildlife habitat, and watershed, recreation, cultural, and scenic values within the Pryor Mountain Wild Horse Range:

Sixth Principal Meridian, Wyoming

T. 58 N., R. 95 W.,

Sec. 19, lot 2 and SE¼NE¼;

Sec. 20, N½S½, SE¼SW¼, and S½SE¼;

Sec. 21, Southwest Diagonal Half SW¼;

Sec. 23, NE¼SW¼;

Sec. 26, SW¼NW¼ and W½SW¼;

Sec. 27, S½;

Sec. 28, NW¼NE¼, S½NE¼, and S½;

Sec. 29, NE¼, NE¼NW¼, and NE¼SE¼;

Sec. 33, NE¼ and NE¼NW¼;

Sec. 34, NW¼.

The area described contains 1,960.10 acres in Big Horn County.

2. The withdrawal made by this order does not alter the applicability of those public land laws governing the use of the land under lease, license, or permit, or governing the disposal of their mineral or vegetative resources other than under the mining laws.

3. This withdrawal will expire 20 years from the effective date of this order unless, as a result of a review conducted before the expiration date pursuant to section 204(f) of the Federal Land Policy and Management Act of 1976, 43 U.S.C. 1714(f) (2000), the Secretary determines that the withdrawal shall be extended.

Dated: February 11, 2005.
Rebecca W. Watson,
Assistant Secretary—Land and Minerals Management.

[FR Doc. 05-4419 Filed 3-7-05; 8:45 am]

BILLING CODE 4310-DN-P